DEPARTMENT OF DEFENSE

Office of the Secretary

Proposed Collection; Comment Request

AGENCY: Office of the Assistant Secretary of Defense (Health Affairs), DoD.

ACTION: Notice.

SUMMARY: In compliance with Section 3506(c)(2)(A) of the Paperwork Reduction Act of 1995, the Office of the Assistant Secretary of Defense (Health Affairs) announces a proposed information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Consideration will be given to all comments received on or before May 27, 2003.

ADDRESSES: Written comments and recommendations on the continuing information collection should be sent to the Senior Investigator, The Millennium Cohort Study, Naval Health Research Center, Emerging Illness Division, PO Box 85122, San Diego CA 92186-5122.

FOR FURTHER INFORMATION CONTACT: To request more information on this information collection, please write to the above address or contact Margaret A. K. Ryan, MD, MPH, by calling (619) 553-8087 or email at Ryan@NHRC.NAVY.MIL.

Title, Associated Form and OMB Number: Prospective Studies of U.S. Military Forces: The Millennium Cohort Study.

Needs and Uses: The Millennium Cohort Study, a prospective study of U.S. military forces, responds to this need and to recent recommendations, from Congress and the Institute of Medicine to perform a study that systematically collects population-based demographic and health data to evaluate the health of service personnel throughout their military careers and after leaving military service.

Affected Public: Individuals.

Annual Burden Hours: 14,445.

Number of Respondents: 19,200.

Responses Per Respondent: 1.

Average Burden Per Response: 45 minutes.

Frequency: Every Three Years.

SUPPLEMENTARY INFORMATION:

Summary of Information Collection

The purpose of the study is designed to systematically collect population-based demographic and health data to evaluate the health of service personnel throughout their military careers and after leaving military service. The principal objective of the study is to evaluate the impact of military deployments on various measures of health over time, including medically unexplained symptoms and chronic diseases, such as cancer, heart disease, and diabetes. The Millennium Cohort Study will serve as a foundation upon which other routinely captured medical and deployment data may be added to answer future questions regarding the health risks of military deployment, military occupations, and general military service.

Eligible respondents of this survey are individuals who were members of the Armed Forces during the initial study enrollment period conducted in 2000, completed the baseline survey and volunteered to participate in the prospective study and follow-up surveys.

Dated: March 19, 2003.
Patricia L. Toppings,
Alternate OSD Federal Register, Liaison Officer, Department of Defense.

[FR Doc. 03-7090 Filed 3-25-03; 8:45 am]

BILLING CODE 5001-08-M